FEDERAL COMMUNICATIONS COMMISSION

Information Collection Being Reviewed by the Federal Communications Commission Under Delegated Authority

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before April 26, 2013. If you anticipate that you will be submitting PRA comments, but find it difficult to do so within the period of time allowed by this notice, you should advise the FCC contact listed below as soon as possible.

ADDRESSES: Submit your PRA comments to Nicholas A. Fraser, Office of Management and Budget, via fax at 202-395-5167 or via Internet at Nicholas_A._Fraser@omb.eop.gov and to Judith B.Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION: OMB Control Number: 3060-1127.

Title: First Responder Emergency Contact Information in the Universal Licensing System (ULS).

Form Number: N/A.

Type of Review: Extension of a currently approved collection.

Respondents: Business or other for-profit entities, not-for-profit institutions and state, local or tribal government.

Number of Respondents: 13,310 respondents; 13,310 responses.

Estimated Time per Response: .25 hours.

Frequency of Response: On occasion reporting requirement.

Obligation To Respond: Required to obtain or retain benefits. Statutory authority for this information collection is contained in 47 U.S.C. section 4(i) and 154(i).

Total Annual Burden: 3,327 hours.

Total Annual Cost: N/A.

Privacy Impact Assessment: N/A.

Nature and Extent of Confidentiality: To protect the identities and locations of key first responder communications personnel, the Commission will treat emergency contact information submitted into the Universal Licensing System (ULS), pursuant to the Public Notice the Bureau released in 2009, as confidential and will not make such information publicly available. The contact information submitted into ULS by public safety licensees and non-public safety licensees designated as emergency first responders will be available only to Commission staff. Interested licensees should file their operational point of contact information in ULS in the form of a confidential pleading.

Needs and Uses: The Commission will submit this expiring information collection to the Office of Management and Budget (OMB) for approval of an extension request (no change in the public reporting requirement). The Commission is reporting a 33,274 hour reduction in burden which is due to fewer respondents and responses. The Commission's Public Safety and Homeland Security Bureau (Bureau) enhanced the existing ULS to collect operational point of contact information from public safety licensees designated as emergency first responders responsible for coordinating with state, county and local authorities during times of emergency. The process of procuring and maintaining spectrum using the ULS remains intact and requires no additional training for licensees to participate in this voluntary collection. This enhancement to ULS to collect emergency point of contact information enables Commission staff to more effectively provide immediate assistance and outreach to licensees during times of emergency. Using this information, the Bureau is able to coordinate among licensees in given geographic areas to make more wireless service available to emergency first responders and emergency operations.

Public safety licensees and non-public safety licensees designated as emergency first responders operating pursuant to Part 90 of the Commission's rules should identify the following information regarding the operational point of contact for the licensee directly responsible for coordinating with the state, county, and/or local emergency authorities:

(1) Name and title;

(2) Office telephone number;

(3) Mobile telephone number; and

(4) Email address.

The Bureau issued a Public Notice with step-by-step instructions on how to use the enhanced features made available to licensees to provide this information.

Federal Communications Commission.
Marlene H. Dortch,
Secretary.

[FR Doc. 2013-04166 Filed 2-22-13; 8:45 am]

BILLING CODE 6712-01-P